INTER-AMERICAN FOUNDATION

Sunshine Act Meetings

TIME AND DATE: November 14, 2016, 9:00 a.m.-1:00 p.m.

PLACE: Offices of Baker/McKenzie LLP, 815 Connecticut Avenue NW., Washington, DC 20006.

STATUS: Meeting of the Advisory Council, Open to the Public.

MATTERS TO BE CONSIDERED:

Approval of the Minutes of the May 2, 2016, Meeting of the Board of Directors

Management Report

Advisory Council Engagement

Donor Engagement Strategy

Adjournment

CONTACT PERSON FOR MORE INFORMATION: Paul Zimmerman, General Counsel, (202) 683-7118.

Paul Zimmerman,
General Counsel.

[FR Doc. 2016-27246 Filed 11-8-16; 11:15 am]

BILLING CODE 7025-01-P